DEPARTMENT OF HEALTH AND HUMAN SERVICES

Health Resources and Services Administration

Agency Information Collection Activities: Proposed Collection: Public Comment Request; Forms for Use With Applications to the Maternal and Child Health Bureau Research and Training Grants, OMB No. 0906—New

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate below or any other aspect of the ICR.

DATES: Comments on this ICR must be received no later than November 13, 2018.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Forms for Use with Applications to the Maternal and Child Health Bureau Research and Training Grants, OMB No. 0906-xxxx—New.

Abstract: HRSA currently utilizes the National Institute of Health's (NIH) Biographical Sketch and Public Health Service (PHS) Inclusion Enrollment forms (0925-0001) for HRSA's SF424 Research & Related application package research grants. In order to update the forms to meet HRSA's needs, HRSA plans to remove the NIH-specific references and obtain its own OMB control number for the collection of this information.

Need and Proposed Use of the Information: HRSA's Maternal and Child Health Bureau (MCHB) plans to modify the Biographical Sketch and the PHS Inclusion Enrollment Form in slightly different ways in order to meet the needs of its own research and training grant programs. In MCHB's research grant programs, the modified Biographical Sketch form will be used by applicants to summarize the qualifications of each key personnel on their proposed research team, and grant reviewers will use this information to assess the capabilities of the research team to carry out the research project as planned. Monitoring inclusion enrollment is one important component of ensuring demographic diversity (race, ethnicity, and gender) among research study participants in MCHB's research grant portfolio. MCHB's modified PHS Inclusion Enrollment form will be used by applicants to summarize their expected population of research study participants at the time of submission of their proposal, and it will also be used for Enrollment Reporting during the annual Noncompeting Continuation Award.

Likely Respondents: Respondents are applicants to MCHB's research programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Biographical Sketch for MCHB research grant applicants | 200 | 5 | 1,000 | 2.0 | 2,000
PHS Inclusion Enrollment form for MCHB research grant applications | 200 | 1 | 200 | 0.5 | 100
Total | 400 |  | 1,200 |  | 2,100

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2018-19903 Filed 9-12-18; 8:45 am]

BILLING CODE 4165-15-P